COMMODITY FUTURES TRADING COMMISSION

Sunshine Act Meeting

Agency Holding the Meeting: Commodity Futures Trading Commission.

Time and Date: 10:30 a.m., Wednesday, July 30, 2003.

Place: 1155 21st St., NW., Washington, DC, Room 9102.

Status: Closed.

Matters to be Considered: Rule Enforcement Review.

FOR FURTHER INFORMATION CONTACT: Jean A. Webb, 202-418-5100.

Jean A. Webb,
Secretary of the Commission.

[FR Doc. 03-18619 Filed 7-17-03; 1:48 pm]

BILLING CODE 6351-01-M